DEPARTMENT OF LABOR

Employment and Training Administration

Comment Request for Information Collection on the ETA 218, Benefit Rights and Experience Report, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data on the ETA 218, Benefit Rights and Experience Report, which expires June 30, 2013.

DATES: Written comments must be submitted to the office listed in the addresses section below on or before January 18, 2013.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

Attachment to the labor force, usually measured as amount of past wages earned, is used to determine eligibility for state unemployment compensation programs. The data in the ETA 218, Benefit Rights and Experience Report, includes numbers of individuals who were and were not monetarily eligible, those eligible for the maximum benefits, those eligible based on classification by potential duration categories, and those exhausting their full entitlement as classified by actual duration categories. These data are used by the National Office in solvency studies, cost estimating and modeling, and assessment of state benefit formulas.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Benefit Rights and Experience Report.

OMB Number: 1205-0177.

Affected Public: State Workforce Agencies.

Total Annual Burden Cost for Respondents: There is no burden cost for respondents.

Instruments | Respondents | Hours per response | Annualized responses | Annualized hours
ETA 218 for Regular Program Claimants | 53 | 0.5 hours | 4 | 106
ETA 218 for Federal-State Extended Benefit Program ETA 218 Claimants | 7 | 0.5 hours | 4 | 14
ETA 218 for Emergency Unemployment Compensation 2008 Claimants | 53 | 0.5 hours | 4 | 106
Unduplicated Totals | 53 |  | 12 | 226

Signed in Washington, DC, this 23rd day of October, 2012.
Jane Oates,
Assistant Secretary for Employment and Training, Labor.

[FR Doc. 2012-28099 Filed 11-16-12; 8:45 am]

BILLING CODE 4510-FW-P